FEDERAL COMMUNICATIONS COMMISSION

47 CFR Part 4

[PS Docket Nos. 21-346, 15-80; ET Docket No. 04-35; FCC 24-5; FR ID 272202]

Resilient Networks; Disruptions to Communications

AGENCY: Federal Communications Commission.

ACTION: Final rule, announcement of compliance date.

SUMMARY: In this document, the Federal Communications Commission (Commission) announces that the Office of Management and Budget (OMB) has approved the information collection associated with the rule adopted in a Second Report and Order and Second Further Notice of Proposed Rulemaking (Resilient Networks Second Report and Order) requiring cable communications, wireless, wireline, and interconnected Voice over Internet Protocol (VoIP) providers to report their infrastructure status information in the Disaster Information Reporting System (DIRS) daily when the Commission activates DIRS in geographic areas in which they provide service, even when their reportable infrastructure has not changed compared to the prior day. It also codifies, in the Commission's outage reporting rules, that a subject provider's Networks Outage Reporting System reporting obligations are waived while they report in DIRS and requires that subject providers who report in DIRS provide a single, final DIRS report to the Commission, within 24 hours of the Commission's deactivation of DIRS, that provides the status of their infrastructure identified to the Commission during the DIRS reporting period that has not yet been fully restored at the time of the deactivation. This document is consistent with the Resilient Networks Second Report and Order, which states the Commission will publish a document in the Federal Register announcing a compliance date for the rule section and revise the rule accordingly.

DATES: Effective February 20, 2025. Compliance with 47 CFR 4.18, published at 89 FR 25535, on April 11, 2024, and 89 FR 32373 on April 26, 2024, is required as of February 20, 2025. In addition, this document removes 47 CFR 4.18(c), which advised that compliance with the new rules would not be required until § 4.18(c) is removed or the Commission announces a compliance date.

FOR FURTHER INFORMATION CONTACT: Logan Bennett, Attorney Advisor, Cybersecurity and Communications Reliability Division, Public Safety and Homeland Security Bureau, at (202) 418-7790 or logan.bennett@fcc.gov. For additional information concerning the Paperwork Reduction Act information collection requirements contact Nicole Ongele at (202) 418-2991 or via email: Nicole.Ongele@fcc.gov.

SUPPLEMENTARY INFORMATION: This document announces that OMB approved the information collection requirement in § 4.18 on December 5, 2024.

The Commission publishes this document as an announcement of the compliance date of the rules.

If you have any comments on the burden estimates listed in the following, or how the Commission can improve the collections and reduce any burdens caused thereby, please contact Nicole Ongele, Federal Communications Commission, 45 L Street NE, Washington, DC 20554. Please include OMB Control Number, 3060-1033, in your correspondence. The Commission will also accept your comments via email at PRA@fcc.gov. To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received final OMB approval as approved with changes on December 5, 2024, for the information collection requirement contained in § 4.18.

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1003.

OMB Approval Date: December 5, 2024.

OMB Expiration Date: December 31, 2027.

Title: Communications Disaster Information Reporting System (DIRS).

Form Number: N/A.

Respondents: Business or other for-profit entities, and State, local or tribal governments, and Federal Government.

Number of Respondents and Responses: 18,306 respondents; 292,896 responses.

Estimated Time per Response: 0.166 hours.

Frequency of Response: Annual and on occasion reporting requirements and recordkeeping requirements.

Obligation to Respond: Mandatory. Statutory authority for this collection of information is contained in sections 1, 4(i), 4(j), 4(n), 201, 214, 218, 251(e)(3), 301, 303(b), 303(g), 303(j), 303(r), 307, 309 316, 332, and 403 of the Communications Act of 1934, as amended, and 47 U.S.C. 151, 154(i)-(j) & (n), 201, 214, 218, 251(e)(3), 301, 303(b), 303(g), 303(r), 307, 309(a), 309(j), 316, 332, 403; sections 2, 3(b), and 6-7 of the Wireless Communications and Public Safety Act of 1999, 47 U.S.C. 615 note, 615, 615a-1, 615b, section 106 of the Twenty First Century Communications and Video Accessibility Act of 2010, 47 U.S.C. 615c, section 506(a) of the Repack Airways Yielding Better Access for Users of Modern Services Act of 2018 (RAY BAUM'S Act), and section 6206 of the Middle Class Tax Relief and Job Creation Act of 2012, 47 U.S.C. 1426.

Total Annual Burden: 48,816 hours.

Total Annual Cost: No Cost.

Needs and Uses: Using DIRS, participating communications companies provide the Commission with their emergency contact information and can subsequently inform the Commission of damage to their infrastructure and facilities, as well as request resources for restoration from the Commission. DIRS respondents provide this information using web-based electronic forms tailored to their types of networks and facilities.

In the Mandated Disaster Information Reporting System Order, 89 FR 32373, April 26, 2024 (previously 89 FR 25535, April 11, 2024), the Commission is requiring cable communications, wireless, wireline and interconnected VoIP providers (Subject Providers) to report their infrastructure status information in DIRS on a daily basis while DIRS is activated. During that time, Subject Providers will not be required to file reports of system outages in the FCC's Network Outage Reporting System (NORS) that arise during the DIRS activation and that are timely reported in DIRS.

The new rules also require Subject Providers to provide a final report to the Commission within 24 hours of the Commission's deactivation of DIRS and the termination of required daily reporting that details the state of their infrastructure at the time of DIRS deactivation and provides an estimated date of resolution of any remaining outages. This mandatory reporting requirement replaces the former voluntary DIRS reporting framework because, after almost two decades of observation, the Commission notes that the United States has been experiencing an increasing number of perilous floods, hurricanes, winter storms, tornados, and wildfires necessitating a more regular activation of DIRS.

List of Subjects in 47 CFR Part 4

Communications equipment, Reporting and recordkeeping requirements, Telecommunications.

Federal Communications Commission.
Marlene Dortch,
Secretary, Office of the Secretary.

Final Rules

For the reasons discussed in the preamble, the Federal Communications Commission amends 47 CFR part 4 as follows:

PART 4—DISRUPTIONS TO COMMUNICATIONS

1. The authority citation for part 4 continues to read as follows:

Authority: 47 U.S.C. 34-39, 151, 154, 155, 157, 201, 251, 307, 316, 615a-1, 1302(a), and 1302(b); 5 U.S.C. 301, and Executive Order no. 10530.

§ 4.18 [Amended]

2. Amend § 4.18 by removing paragraph (c).

[FR Doc. 2025-00495 Filed 1-17-25; 8:45 am]

BILLING CODE 6712-01-P